DEPARTMENT OF THE INTERIOR

Minerals Management Service

Outer Continental Shelf (OCS), Eastern Gulf of Mexico (GOM), Oil and Gas Lease Sale 224 for 2008

AGENCY: Minerals Management Service (MMS), Interior.

ACTION: Call for Information and Nominations/Notice of Intent (Call/NOI) to Prepare a Supplemental Environmental Impact Statement (SEIS).

SUMMARY: The purpose of the Call/NOI is to gather information on oil and gas leasing, exploration, and development that might result from an OCS oil and gas lease sale tentatively scheduled in early 2008. As mandated in the recently enacted Gulf of Mexico Energy Security Act (GOMESA) of 2006 (Pub. L. 109-432, December 20, 2006), MMS shall offer a portion of the “181 Area,” located in the Eastern Planning Area, more than 125 miles from Florida for oil and gas leasing. The NOI seeks input for scoping a SEIS.

DATES: Comments must be received no later than March 16, 2007 at the address specified below.

FOR FURTHER INFORMATION CONTACT: For information on this Call, please contact Mr. Carrol Williams, Minerals Management Service, Gulf of Mexico OCS Region, 1201 Elmwood Park Boulevard, New Orleans, Louisiana 70123-2394, telephone (504) 736-2803. For information on the NOI, you may contact Mr. Dennis Chew, Gulf of Mexico OCS Region, 1201 Elmwood Park Boulevard, New Orleans, Louisiana 70123-2394, telephone (504) 736-2793.

SUPPLEMENTARY INFORMATION: The recently enacted Gulf of Mexico Energy Security Act (GOMESA) of 2006, (Pub. L. 109-432, December 20, 2006), mandated MMS to offer a portion of the “181 Area” located in the newly defined Eastern Planning Area, more than 125 miles from Florida, and west of the Military Mission Line (86 degrees, 41 minutes West longitude) for oil and gas leasing “as soon as practicable, but not later than 1 year, after the date of enactment of this Act.” The Act mandates offering this area “notwithstanding the omission of the 181 Area * * * from any outer Continental Shelf leasing program under section 18 of the Outer Continental Shelf Lands Act (43 U.S.C. 1344).” However, this action is not exempted from other legal requirements, such as the National Environmental Policy Act (NEPA) or the Coastal Zone Management Act. The MMS has decided to prepare a supplemental EIS to the original Sale 181 Area EIS (2001) in order to address these requirements. The earliest MMS would be able to meet these requirements and offer this area would be approximately March 2008. To meet the 1-year requirement of the Act, this sale should be held no later than December 2007; however, MMS feels that it is in the best interests of all parties, including the American public as owners of these resources, that MMS take the time necessary to fully comply with all pertinent laws, rules and regulations and allow the public an opportunity to participate in the NEPA process. It also is more economical and efficient for the government and industry to hold this sale in conjunction with Central Gulf of Mexico Sale 206 at the same time and location. The area to be offered in Sale 224 is small, approximately 130 tracts. Recent Central Gulf sales have offered over 4,000 tracts. The logistics of holding a sale are intensive and relatively costly; therefore, it makes sense to hold the smaller sale in conjunction with a larger sale. Additionally, holding Sale 224 in conjunction with Sale 206 would help ensure that a sufficient number of companies would be represented in bidding, which may enhance the number of bids and possibly the revenue generated by more competitive bidding.

This Call/NOI is the initial step in the prelease process for the sale. The SEIS associated with this NOI will update the environmental and socioeconomic analyses in the Gulf of Mexico OCS Oil and Gas Lease Sale 181 Final EIS (OCS EIS/EA MMS 2001-051) which addressed the original “Sale 181 Area.” The MMS plans to complete National Environmental Policy Act (NEPA), OCS Lands Act, and Coastal Zone Management Act (CZMA) coverage for the proposed lease sale.

Call for Information and Nominations

1. Authority

This Call is published pursuant to the OCSLA as amended (43 U.S.C. 1331-1356), and the regulations issued thereunder (30 CFR part 256).

2. Purpose of Call

The purpose of the Call is to gather information for the following tentatively scheduled OCS Lease Sale in a portion of the “181 Area”:

Lease Sale, OCS Planning Area:

Lease Sale 224, Eastern GOM (portion).

Tentative Lease Sale Date:

March 2008.

Information on oil and gas leasing, exploration, development and production within this portion of the Eastern Planning Area is sought from all interested parties. This early planning and consultation step is important for ensuring that all interests and concerns are communicated to the Department of the Interior for future decisions in the leasing process pursuant to the OCSLA and regulations at 30 CFR part 256.

This Call is in response to the mandate for a lease sale contained in the GOMESA. Final delineation of this area for possible leasing will be made at a later date and in compliance with applicable laws including all requirements of the NEPA, CZMA and OCSLA. Established Departmental procedures will be employed.

3. Description of Area

The general area of this Call encompasses about 134 unleased blocks covering approximately 584,817 acres in that portion of the “181 Area” that is west of the Military Mission Line and more than 125 miles from Florida. A standard Call for Information Map depicting this portion of the Eastern Planning Area is available without charge from: Minerals Management Service, Public Information Unit (MS 5034), 1201 Elmwood Park Boulevard, New Orleans, Louisiana 70123-2394, or telephone: 1-800-200-GULF. The map is also available via the MMS Web site at http://www.mms.gov.

4. Instructions on Call

Comments must be received no later than 30 days following publication of this document in the Federal Register in envelopes labeled “Comments on the Call for Information and Nominations for Proposed Lease Sale 224 for 2008,” submitted to the Gulf of Mexico Region's Leasing Activities Section (Attention: Mr. Carrol Williams) at the previously noted address.

The standard Call for Information Map delineates the Call area, all of which has been identified by the MMS as having potential for the discovery of accumulations of oil and gas.

Comments are sought from all interested parties about particular geological, environmental (including natural disasters), biological, archaeological and socioeconomic conditions or conflicts, or other information that might bear upon the potential leasing and development of this area. Comments are also sought on possible conflicts between future OCS oil and gas activities that may result from the proposed lease sale and State Coastal Management Programs (CMP's). If possible, these comments should identify specific CMP policies of concern, the nature of the conflict foreseen, and steps that the MMS could take to avoid or mitigate the potential conflict. Comments may be in terms of broad areas or restricted to particular blocks of concern. Those submitting comments are requested to list block numbers or outline the subject area on the standard Call for Information Map.

5. Use of Information From Call

Information submitted in response to this Call will be used for several purposes. First, comments on possible environmental effects and potential use conflicts will be used in the analysis of environmental conditions in and near the Call area. Comments on environmental and other use conflicts will be used to make a preliminary determination of the potential advantages and disadvantages of oil and gas exploration and development to the region and the Nation. A second purpose for this Call is to use the comments collected in the scoping process to develop proposed actions and alternatives. Third, comments may be used in developing lease terms and conditions to ensure environmentally safe offshore operations, and, fourth, comments may be used to assess potential conflicts between offshore gas and oil activities and a State CMP.

6. Existing Information

The MMS routinely assesses the status of information acquisition efforts and the quality of the information base for potential decisions on a tentatively scheduled lease sale. An extensive environmental studies program has been underway in the GOM since 1973. The emphasis, including continuing studies, has been on “environmental analysis” of biologically sensitive habitats, physical oceanography, ocean-circulation modeling, and ecological effects of oil and gas activities. In response to impacts from Hurricanes Katrina and Rita, the MMS is funding studies regarding hurricane risks to onshore structures and their surrounding communities and environment. Socioeconomic profiles of communities with a high concentration of OCS-related activity will assess the social and environmental impacts of the 2005 hurricanes. These studies will also evaluate the effects of hurricane-related employment shifts on onshore labor and coastal communities. In addition, MMS recently awarded a number of studies to determine the impact of Hurricane Ivan on offshore oil and gas structures. These studies were designed to analyze and assess the damage to structures and pipelines, determine the effectiveness of current design standards and pollution-prevention systems, and develop recommendations for potential changes to industry standards and MMS regulations, if needed. Results of these studies will also apply to the impacts of Hurricanes Katrina and Rita and future hurricanes.

You may obtain a complete listing of available study reports and information for ordering copies from the Public Information Unit referenced above. You may also order the reports for a fee, from the U.S. Department of Commerce, National Technical Information Service, 5285 Port Royal Road, Springfield, Virginia 22161, or telephone (703) 605-6000 or (800) 553-6847. In addition, you may obtain a program status report for continuing studies in this area from the Chief, Environmental Sciences Section (MS 5430), Minerals Management Service, Gulf of Mexico OCS Region, 1201 Elmwood Park Boulevard, New Orleans, Louisiana 70123-2394, or telephone (504) 736-2752, or via the MMS Web site at http://www.gomr.mms.gov/homepg/regulate/environ/studiesprogram.html.

7. Tentative Schedule

Milestones for Proposed Lease Sale 224 for 2008
NOI to Prepare a SEIS | February 2007.
Call for Information and Nominations | February 2007.
Comments received on Call/NOI | March 2007.
Scoping Meetings | March 2007.
Area Identification Decision | March 2007.
Draft SEIS published | June-July 2007.
Public Hearings on Draft SEIS | August-September 2007.
Final SEIS | October-November 2007.
Proposed Notice and Coastal Zone Management Consistency Determination | 5 months before lease sale.
Final Notice of Sale | 1 month before lease sale.
Tentative Lease Sale Date | March 2008 (Lease Sale 224).

Notice of Intent to Prepare a Supplemental Environmental Impact Statement

1. Authority

The NOI is published pursuant to the regulations (40 CFR 1501.7) implementing the provisions of the NEPA of 1969 as amended (42 U.S.C. 4321 et seq. (1988)).

2. Purpose of Notice of Intent

Pursuant to the regulations implementing the procedural provisions of NEPA, MMS is announcing its intent to prepare a SEIS on an oil and gas lease sale tentatively scheduled in early 2008 in the Eastern GOM offshore the States of Louisiana, Mississippi, Alabama, and Florida. The SEIS will update the analyses in the Gulf of Mexico OCS Oil and Gas Lease Sale 181 Final Environmental Impact Statement (OCS EIS/EA MMS 2001-051). The NOI also serves to announce the scoping process for this SEIS. Throughout the scoping process, Federal, State, and local government agencies, and other interested parties have the opportunity to aid MMS in determining the significant issues and alternatives for analysis in the SEIS. The SEIS analysis will focus on the potential environmental effects of oil and natural gas leasing, exploration, development, and production in the proposed lease sale area.

3. Supplemental Information

As mandated in the recently enacted Gulf of Mexico Energy Security Act of 2006, MMS shall offer the “181 Area” for oil and gas leasing pursuant to the Outer Continental Shelf Lands Act (43 U.S.C. 1331 et seq.). In October 2007, proposed Lease Sale 205 would offer the portion of the “181 Area” located in the Central Planning Area, and this is being addressed by a separate EIS. The MMS is proposing to prepare a SEIS to address the proposed lease sale in the remaining portion of the “181 Area.” (see map). The resource estimates and scenario information for the SEIS analyses will be presented as a range that would encompass the resources and activities estimated for the proposed lease sale. At the completion of this SEIS process, a decision will be made for the proposed sale in 2008. This SEIS will supplement the Gulf of Mexico OCS Oil and Gas Lease Sale 181 Final Environmental Impact Statement (OCS EIS/EA MMS 2001-051), which addressed the original “181 Area.” For more information on the SEIS, you may contact Dennis Chew, Gulf of Mexico OCS Region, 1201 Elmwood Park Boulevard, MS 5410, New Orleans, Louisiana 70123-2394 or e-mail environment@mms.gov. You may also contact Mr. Chew by telephone at (504) 736-2793.

4. Cooperating Agency

The MMS invites other Federal agencies and State, tribal, and local governments to consider becoming cooperating agencies in the preparation of the SEIS. We invite qualified government entities to inquire about cooperating agency status for the SEIS. Following the guidelines from the Council of Environmental Quality (CEQ), qualified agencies and governments are those with “jurisdiction by law or special expertise.” Potential cooperating agencies should consider their authority and capacity to assume the responsibilities of a cooperating agency and note that an agency's role in the environmental analysis neither enlarges nor diminishes the final decisionmaking authority of any other agency involved in the NEPA process. Upon request, MMS will provide potential cooperating agencies with a written summary of ground rules for cooperating agencies, including time schedules and critical action dates, milestones, responsibilities, scope and detail of cooperating agencies' contributions, and availability of predecisional information. The MMS anticipates this summary will form the basis for a Memorandum of Understanding between MMS and each cooperating agency. Agencies should also consider the “Factors for Determining Cooperating Agency Status” in Attachment 1 to CEQ's January 30, 2002, Memorandum for the Heads of Federal Agencies: Cooperating Agencies in Implementing the Procedural Requirements of the National Environmental Policy Act. A copy of this document is available at http://ceq.eh.doe.gov/nepa/regs/cooperating/cooperatingagenciesmemorandum.html and http://ceq.eh.doe.gov/nepa/regs/cooperating/cooperatingagencymemofactors.html.

The MMS, as the lead agency, will not provide financial assistance to cooperating agencies. Yet, even if an organization is not a cooperating agency, opportunities exist to provide information and comments to MMS during the normal public input phases of the NEPA/SEIS process. If further information about cooperating agencies is needed, please contact Mr. Dennis Chew at (504) 736-2793.

5. Comments

Federal, State, and local government agencies, and other interested parties are requested to send their written comments on the scope of the SEIS, significant issues that should be addressed, and alternatives that should be considered in one of the following three ways:

1. Electronically using MMS's Public Connect on-line commenting system at https://ocsconnect.mms.gov. From the Public Connect “Welcome” screen, search for “Lease Sale 224 SEIS” or select it from the “Projects Open for Comment” menu.

2. In written form enclosed in an envelope labeled “Comments on the Lease Sale 224 SEIS” and mailed (or hand carried) to the Regional Supervisor, Leasing and Environment (MS 5410), Minerals Management Service, Gulf of Mexico OCS Region, 1201 Elmwood Park Boulevard, New Orleans, Louisiana 70123-2394.

3. Electronically to the MMS e-mail address: environment@mms.gov.

Comments should be submitted no later than 30 days from the publication of this NOI.

Notice of Public Scoping Meetings on the Supplemental Environmental Impact Statement

Summary: Pursuant to the regulations implementing the procedural provisions of the NEPA (42 U.S.C. 4321, et seq.), the MMS will hold public scoping meetings in Louisiana and Florida on the SEIS for the tentatively scheduled 2008 oil and gas leasing proposal in the Eastern Gulf of Mexico. The purpose of these meetings will be to solicit comments on the scope of the SEIS.

The public scoping meetings are scheduled as follows:

• Thursday, March 1, 2007, New World Landing, 600 South Palafox Street, Pensacola, Florida, 3 p.m. and 7 p.m.

• Wednesday, March 7, 2007, Larose Civic Center, Larose Regional Park, Larose, Louisiana, 7 p.m.

For further information about the scoping meetings contact Minerals Management Service, Gulf of Mexico OCS Region, 1201 Elmwood Park Boulevard, New Orleans, Louisiana 70123-2394, Mr. Dennis Chew, telephone (504) 736-2793.

Dated: February 8, 2007.
R.M. “Johnnie” Burton,
Director, Minerals Management Service.

[FR Doc. E7-2498 Filed 2-13-07; 8:45 am]

BILLING CODE 4310-MR-P